DEPARTMENT OF JUSTICE

Notice of Lodging of Proposed Consent Decree Under the Clean Air Act

On July 2, 2018, the Department of Justice lodged a proposed Consent Decree with the United States District Court for the Western District of Missouri in the lawsuit entitled United States v. MFA Incorporated, and MFA Enterprises, Inc., Civil Action No.: 2:18-cv-04133-WJE.

The United States, on behalf of the United States Environmental Protection Agency, filed a complaint against MFA Incorporated and MFA Enterprises, Inc. (collectively, “MFA”) seeking injunctive relief and the imposition of civil penalties for violations of Section 112(r) of the Clean Air Act (“CAA”) in connection with MFA's storage and handling of anhydrous ammonia at nine of its farm supply centers in Missouri. The Consent Decree requires MFA to pay a cash civil penalty of $850,000 for the violations alleged in the complaint, perform injunctive relief, and complete a Supplemental Environmental Project that involves installing electronic shut-off systems for anhydrous ammonia at no fewer than 53 facilities. In return, the United States agrees not to pursue MFA under Section 112(r) of the Clean Air Act for the violations alleged in the complaint.

The publication of this notice opens a period for public comment on the Consent Decree. Comments should be addressed to the Assistant Attorney General, Environment and Natural Resources Division, and should refer to United States v. MFA Incorporated, and MFA Enterprises, Inc.., D.J. Ref. No. 90-5-2-1-11257. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $17.75 (25 cents per page reproduction cost) payable to the United States Treasury. For a paper copy without the exhibits and signature pages, the cost is $9.25.

Jeffrey Sands,
Assistant Section Chief, Environmental Enforcement Section, Environment and Natural Resources Division.

[FR Doc. 2018-14794 Filed 7-10-18; 8:45 am]

BILLING CODE 4410-15-P